DEPARTMENT OF LABOR

Employment and Training Administration

[TA-W-51,095]

M. Wile Company, dba HMX Tailored, Also Known as Intercontinental Branded Apparel, Buffalo, NY; Amended Certification Regarding Eligibility To Apply for Worker Adjustment Assistance

In accordance with section 223 of the Trade Act of 1974 (19 U.S.C. 2273) the Department of Labor issued a Certification of Eligibility to Apply for Worker Adjustment Assistance on May 28, 2003, applicable to workers of M. Wile Company, dba HMX Tailored, located in Buffalo, New York. The notice was published in the Federal Register on June 19, 2003 (68 FR 36845).

At the request of the State Agency, the Department reviewed the certification for workers of the subject firm. The workers produce men's tailored clothing including men's suit coats and sport coats and cut fabric for men's pants produced at other company plants.

The review shows that the subject firm also does business under the brand name, Intercontinental Branded Apparel. Workers of Intercontinental Branded Apparel, Ellwood Avenue, Buffalo, New York,were certified eligible to apply for worker adjustment assistance under petition number TA-W-38,253, which expired February 21, 2003.

Therefore, in order to avoid an overlap in worker group coverage, the Department is amending the February 21, 2002 impact date established for TA-W-51,095, to read February 22, 2003.

The amended notice applicable to TA-W-51,095 is hereby issued as follows:

All workers of M. Wile Company, dba HMX Tailored, also known as Intercontinental Branded Apparel, Buffalo, New York, who became totally or partially separated from employment on or after February 22, 2003, through May 28, 2005, are eligible to apply for adjustment assistance under Section 223 of the Trade Act of 1974.

Signed at Washington, DC, this 23rd day of June 2003.
Richard Church,
Certifying Officer, Division of Trade Adjustment Assistance.

[FR Doc. 03-17448 Filed 7-9-03; 8:45 am]

BILLING CODE 4510-30-P